DEPARTMENT OF DEFENSE

Defense Acquisition Regulations System

48 CFR Parts 204, 246, and 252

[Docket DARS-2016-0023]

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective October 21, 2016.

FOR FURTHER INFORMATION CONTACT: Ms. Jennifer L. Hawes, Defense Acquisition Regulations System, OUSD (AT&L) DPAP (DARS), Room 3B941, 3060 Defense Pentagon, Washington, DC 20301-3060. Telephone 571-372-6115; facsimile 571-372-6094.

SUPPLEMENTARY INFORMATION: This final rule amends the DFARS as follows—

1. Provides direction to contracting officers at DFARS 204.270-2(c) to follow the procedures at DFARS Procedures, Guidance, and Information (PGI) 204.270-2(c) regarding the creation and processing of contract deficiency reports;

2. Corrects a reference at DFARS 246.870-2(a)(2) to the clause at 252.246-7008, Sources of Electronic Parts; and

3. Corrects a reference at DFARS 252.246-7008(b)(3)(i) to another paragraph of the clause.

List of Subjects in 48 CFR 204, 246, and 252

Government procurement.

Jennifer L. Hawes,
Editor, Defense Acquisition Regulations System.

Therefore, 48 CFR parts 204, 246, and 252 are amended as follows:

1. The authority citation for 48 CFR parts 204, 246, and 252 continues to read as follows:

Authority: 41 U.S.C. 1303 and 48 CFR chapter 1.

PART 204—ADMINISTRATIVE MATTERS

204.270 [Amended]

2. Amend section 204.270-2 by—

a. Redesignating the introductory text as paragraph (b);

b. In the newly redesignated paragraph (b), removing “contract documents” and adding “contract documents and data” in its place; and

c. Adding paragraph (c).

The addition reads as follows:

204.270-2 Procedures

* * * * *

(c) The procedures at PGI 204.270-2(c) provide details on the creation and processing of contract deficiency reports, which are used to correct problems with contracts distributed in EDA.

* * * * *

PART 246—QUALITY ASSURANCE

246.870-2 [Amended]

3. Amend section 204.870-2(a)(2) introductory text by removing “(b)(3)(ii) through (b)(3)(iv)” and adding “(b)(3)(ii)” in its place.

PART 252—SOLICITATION PROVISIONS AND CONTRACT CLAUSES

252.246-7008 [Amended]

4. Amend section 252.246-7008 by—

a. Removing the clause date “(AUG 2016)” and adding “(OCT 2016)” in its place; and

b. In paragraph (b)(3)(i) introductory text, removing “paragraphs (b)(3)(ii) through (b)(3)(iv)” and adding “paragraph (b)(3)(ii)” in its place.

[FR Doc. 2016-25425 Filed 10-20-16; 8:45 am]

BILLING CODE 5001-06-P